FEDERAL COMMUNICATIONS COMMISSION

47 CFR Part 73

[DA 01-2784; MM Docket No. 98-162; RM-9263]

Radio Broadcasting Services; Sugar Hill and Taccoa, GA

AGENCY: Federal Communications Commission.

ACTION: Final rule.

SUMMARY: This document grants a Petition for Reconsideration filed by Southern Broadcasting of Pensacola, Inc. to the extent of setting aside a previous action substituting Channel 291C1 for Channel 291C at Taccoa, Georgia, reallotting Channel 291C1 to Sugar Hill, Georgia, and modifying the license of Station WNGC to specify operation on Channel 291C1 at Sugar Hill. See 66 FR 39456, published July 20, 2001. As a result, Station WNGC will continue to be licensed on Channel 291C at Taccoa, Georgia. The reference coordinates for Channel 291C at Taccoa, Georgia, are 34-22-41 and 83-39-30.

DATES: Effective December 14, 2001.

FOR FURTHER INFORMATION CONTACT: Robert Hayne, Mass Media Bureau, (202) 418-2177.

SUPPLEMENTARY INFORMATION: This is a synopsis of the Commission's Memorandum Opinion and Order in MM Docket No. 98-162, adopted November 28, 2001, and released November 30, 2001. The full text of this decision is available for inspection and copying during normal business hours in the FCC's Reference Information Center at Portals II, CY-A257, 445 12th Street, SW., Washington, DC 20554. The complete text of this decision may also be purchased from the Commission's copy contractor, Qualex International, Portals II, 445 12th Street, SW., room CY-B402, Washington, DC 20554, telephone 202-863-2893, facsimile 202-863-2898, or via e-mail qualexint@aol.com.

List of Subjects in 47 CFR Part 73

Radio Broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Georgia, is amended by removing Sugar Hill, Channel 291C1.

3. Section 73.202(b), the Table of FM Allotments under Georgia, is amended by adding Taccoa, Channel 291C.

Federal Communications Commission.
John A. Karousos,
Chief, Allocations Branch, Policy and Rules Division, Mass Media Bureau.

[FR Doc. 01-30866 Filed 12-13-01; 8:45 am]

BILLING CODE 6712-01-P